Proclamation 10590 of May 31, 2023

Lesbian, Gay, Bisexual, Transgender, Queer, and Intersex Pride Month, 2023

By the President of the United States of America

A Proclamation

In June 1969, a courageous group of Americans rose up to protest the violence and marginalization they faced in what became known as the Stonewall Uprising. Police had raided the Stonewall Inn—a gay bar located in New York City—and for the next six days they clashed with LGBTQI+ protestors, who bravely stood their ground. Their courage sparked a civil rights movement for the liberation of the LGBTQI+ community and changed our Nation forever.

During Pride Month, we honor a movement that has grown stronger, more vibrant, and more inclusive with every passing year. Pride is a celebration of generations of LGBTQI+ people, who have fought bravely to live openly and authentically. And it is a reminder that we still have generational work to do to ensure that everyone enjoys the full promise of equity, dignity, protection, and freedom.

Today, our Nation faces another inflection point. In 2023 alone, State and local legislatures have already introduced over 600 hateful laws targeting the LGBTQI+ community. Books about LGBTQI+ people are being banned from libraries. Transgender youth in over a dozen States have had their medically necessary health care banned. Homophobic and transphobic vitriol spewed online has spilled over into real life, as armed hate groups intimidate people at Pride marches and drag performances, and threaten doctors' offices and children's hospitals that offer care to the LGBTQI+ community. Our hearts are heavy with grief for the loved ones we have lost to anti-LGBTQI+ violence.

Despite these attacks, the LGBTQI+ community remains resilient. LGBTQI+ Americans are defiantly and unapologetically proud. Youth leaders are organizing walkouts at high schools and colleges across the country to protest discriminatory laws. LGBTQI+ young people and their parents are demonstrating unimaginable courage by testifying in State capitols in defense of their basic rights.

They are not alone: My entire Administration stands proudly with the LGBTQI+ community in the enduring struggle for freedom, justice, and equality. And we are making strides. On my first day in office, I signed a historic Executive Order charging the entire Federal Government with protecting LGBTQI+ people from discrimination—from health care to housing, education, employment, banking, and the criminal justice system. Last December, surrounded by dozens of couples who have fought for marriage equality in the courts for decades, I had the great honor of signing into law the landmark Respect for Marriage Act. This bipartisan law protects the rights of same-sex and interracial couples—like caring for one's sick partner and receiving spousal benefits. Deciding who to marry is one of life's most profound decisions, so we etched a simple truth into law: Love is love.

Meanwhile, I have taken unprecedented steps to support LGBTQI+ youth. During Pride Month last year, I signed an Executive Order charging Federal agencies with combating the dangerous and discredited practice of so-called “conversion therapy.” I also directed agencies to help end the crisis of homelessness among LGBTQI+ youth and adults and to address discrimination that LGBTQI+ kids face in foster care. The Department of Justice is combating laws that target transgender children, and the Departments of Education and Health and Human Services have proposed new rules to protect LGBTQI+ Americans from discrimination in health care, at school, and in sports. I also established the White House Task Force to Address Online Harassment and Abuse to develop concrete actions to prevent and respond to online harassment and abuse, which disproportionately target LGBTQI+ people. Additionally, my Administration made it easier for LGBTQI+ youth to access vital mental health support. Now, by calling the 988 Suicide & Crisis Lifeline and dialing the number 3, LGBTQI+ youth can speak to counselors who have been specifically trained to support them.

This country is stronger and more just when America's leaders reflect the full diversity of our Nation, so I have appointed a historic number of highly qualified openly LGBTQI+ judges and public servants at all levels of the Federal Government. Our Armed Forces are most capable when all patriots can serve their country, so I protected the right of transgender people to once again serve openly in the military.

But there is more to do, like passing the bipartisan Equality Act, which would strengthen civil rights protections for LGBTQI+ people and families across America. We must also address the disproportionate levels of homelessness, poverty, and unemployment in the LGBTQI+ community and end the crisis of violence against transgender women and girls of color. We must support LGBTQI+ activists around the globe who are standing up for basic human rights and LGBTQI+ survivors of gender-based violence. And we must end the HIV/AIDS epidemic once and for all. Our collective freedoms are inextricably linked: when one group's dignity and equality are threatened, we all suffer. This month and every month, let us celebrate the pride that powers the movement for LGBTQI+ rights and commit to doing our part to help realize the promise of America, for all Americans.

NOW, THEREFORE, I, JOSEPH R. BIDEN JR., President of the United States of America, by virtue of the authority vested in me by the Constitution and the laws of the United States, do hereby proclaim June 2023 as Lesbian, Gay, Bisexual, Transgender, Queer, and Intersex Pride Month. I call upon the people of the United States to recognize the achievements of the LGBTQI+ community, to celebrate the great diversity of the American people, and to wave their flags of pride high.

IN WITNESS WHEREOF, I have hereunto set my hand this thirty-first day of May, in the year of our Lord two thousand twenty-three, and of the Independence of the United States of America the two hundred and forty-seventh.

[FR Doc. 2023-12057

Filed 6-2-23; 8:45 am]

Billing code 3395-F3-P